DEPARTMENT OF TRANSPORTATION

Federal Aviation Administration

[Docket No. FRA-2022-0923]

Agency Information Collection Activities: Requests for Comments; Clearance of a Renewed Approval of Information Collection: Part 142, Certificated Training Centers

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on July 11, 2022. The collection involves Certificated Training Centers. Operators pay Certificated Training Centers to provide training to their employees, typically pilots, on different types of equipment if training is not done in house. The information to be collected is necessary because it allows aviation safety inspectors (operations) to review and to provide surveillance to training centers to ensure compliance with airman training, testing, and certification requirements specified in other parts of the regulations. If the information were not collected, inspectors would not be able to determine if airmen who are clients are being trained, checked or tested to meet the safety standards established in other parts of the regulations. To date, FAA inspectors have used the information collected to determine and assess regulatory compliance during routine program surveillance.

DATES: Written comments should be submitted by March 6, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sandra Ray by email at: Sandra.ray@faa.gov; phone: 412-329-3088.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0570.

Title: Part 142, Certificated Training Centers.

Form Numbers: None.

Type of Review: Renewal of an information collection.

Background: The Federal Register Notice with a 60-day comment period soliciting comments on the following collection of information was published on July 11, 2022 (87 FR 41162). Part 142 Flight Schools are subject to several collection requirements. 14 CFR part 142 is one of several Federal Regulation parts that implement the Public Law. Section 142.11 provides that application for a training center certificate and training specifications shall be made in a form and manner prescribed by the Administrator, shall provide specific information about each management, instructor position, and evaluator position, and contain certain other administrative information.

Section 142.37 provides that application for approval of training programs must be in a form and manner acceptable to the Administrator, and must provide specific information about curriculum and courses of the training program.

Chapter 447, section 44701 of title 49, United States Code, provides, in pertinent part, that the Administrator may find, after investigation, that a person found to possess proper qualifications for a position as an airman may be issued such certificate. That certificate shall contain such terms, conditions, and limitations as to duration thereof, as well as periodic or special examinations, and other matters as the Administrator may determine to be necessary to assure safety in air commerce.

Section 142.73 requires that training centers maintain records for a period of one year to show trainee qualifications for training, testing, or checking, training attempts, training checking, and testing results, and for one year following termination of employment the qualification of instructors and evaluators providing those services.

The respondents may be the part 142 schools, part 121 or 135 air carriers who utilize these schools or new applicants seeking part 142 certification. The information may be collected in electronic forms. No specific forms are required. Information reporting may be done in accordance with the individual FAA office.

Respondents: Part 142 schools, Part 121 and 135 carriers and new certifications.

Frequency: On occasion.

Estimated Average Burden per Response: Varies per requirement.

Estimated Total Annual Burden: 87,112 hours.

Issued in Washington, DC, on January 30, 2023.
Sandra L. Ray,
Aviation Safety Inspector, AFS-260.

[FR Doc. 2023-02209 Filed 2-2-23; 8:45 am]

BILLING CODE 4910-13-P